DEPARTMENT OF DEFENSE

Office of Secretary of Defense

[DoD-2006-OS-0224]

Privacy Act of 1974; Systems of Records

AGENCY: Defense Finance and Accounting Service, DoD.

ACTION: Notice to add a new system of records.

SUMMARY: The Defense Finance and Accounting Service (DFAS) is proposing to add a system of records notice to its inventory of record systems subject to the Privacy Act of 1974, (5 U.S.C. 552a), as amended.

DATES: This action will be effective without further notice on June 4, 2007 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on April 24, 2007, to the House Committee on Oversight and Government Reform, the Senate Committee on Governmental Affairs, and the Office of Management and Budget (OMB) pursuant to paragraph 4c of Appendix I to OMB Circular No. A-130, ‘Federal Agency Responsibilities for Maintaining Records About Individuals,’ dated December 12, 2000, 65 FR 239.

Dated: April 30, 2007.
L.M. Bynum,
Alternative OSD Federal Register Liaison Officer, Department of Defense.

T7225

System name:

Integrated Accounts Payable System (IAPS).

System location:

Defense Information Systems Agency, Defense Enterprise Computing Center, 7879 Wardleigh Road, Hill Air Force Base, Ogden, Utah 84058-5997.

Defense Finance and Accounting Service—Denver, 6760 E. Irvington Place, Denver, Colorado 80279-8000.

Defense Finance and Accounting Service—Japan, Building 206, Unit 5220, APO AP 96328-5220.

Defense Finance and Accounting Service—Columbus, 3990 East Broad Street, Columbus, Ohio 43213-1152.

Defense Finance and Accounting Service—Limestone, 27 Arkansas Road, Limestone, Maine 04751-1500.

Categories of individuals covered by the system:

DoD civilians, Air Force Active Duty and Reserve personnel, Air National Guard members, retired military members, vendors, and private citizens.

Categories of records in the system:

Individual's name, address, Social Security Number (SSN), bank transit routing number, and bank account number.

Authority for maintenance of the system:

5 U.S.C. 301, Departmental Regulations; 31 U.S.C. Chapters 37 and 39, Department of Defense Financial Management Regulation (DoDFMR) 7000.14-R, Vol. 10; and E.O. 9397 (SSN).

Purpose(s):

The system will be used to generate payment vouchers for claims, awards, personal expenditures, or other entitlements.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the DoD compilation of systems of records notices apply to this system.

Policies and practices for storing, retrieving, accessing, retaining, and disposing of records in the system:

Storage:

Papers records in file folders and electronic storage media.

Retrievability:

Name and Social Security Number (SSN).

Safeguards:

Records are maintained in a controlled facility. Physical entry is restricted by the use of locks, guards, and is accessible only to authorized personnel. Access to records is limited to person(s) responsible for servicing the record in performance of their official duties and who are properly screened and cleared for a need-to-know. Access to computerized data is restricted by passwords, which are changed periodically according to agency security policy.

Retention and disposal:

Records may be temporary in nature and destroyed when actions are completed, superseded, obsolete, or no longer needed. Other records may be cut off at the end of the payroll or fiscal year, and destroyed up to 6 years and 3 months after cutoff. Records are destroyed by degaussing, burning or shredding.

System manager(s) and address:

System Manager, Defense Finance and Accounting Service-Denver, Information and Technology Systems Management Directorate, 6760 E. Irvington Place, Denver, CO 80279-8000.

Notification procedure:

Individuals seeking to determine whether information about themselves is contained in this system of records should address written inquiries to the Defense Finance and Accounting Service, Freedom of Information/Privacy Act Program Manager, Corporate Communications and Legislative Liaison, 6760 E. Irvington Place, Denver, CO 80279-8000.

Requests should contain individual's full name, Social Security Number (SSN), current address, and telephone number.

Record access procedures:

Individuals seeking access to information about themselves contained in this system of records should address written inquiries to Defense Finance and Accounting Service, Freedom of Information/Privacy Act Program Manager, Corporate Communications and Legislative Liaison, 6760 E. Irvington Place, Denver, CO 80279-8000.

Requests should contain individual's full name, Social Security Number (SSN), current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

Individual and other DoD Components such as Defense Security Service and the National Geospatial-Intelligence Agency.

Exemptions claimed for the system:

None.

[FR Doc. 07-2199 Filed 5-3-07; 8:45 am]

BILLING CODE 5001-06-M